DEPARTMENT OF LABOR

Employment and Training Administration

[TA-W-73,762]

Rain Bird Corporation, Arizona Molding Division Including On-Site Leased Workers From Lumea Staffing Services, Tri-State Staffing Services and Remedy Staffing (AKA Select Staffing) Tucson, AZ; Amended Certification Regarding Eligibility To Apply for Worker Adjustment Assistance

In accordance with Section 223 of the Trade Act of 1974, as amended (“Act”), 19 U.S.C. 2273, the Department of Labor issued a Certification of Eligibility To Apply for Worker Adjustment Assistance on June 9, 2009, applicable to workers of Rain Bird Corporation, Arizona Molding Division, including on-site leased workers from Lumea Staffing Services and Tri-State Staffing Service, Tucson, Arizona. The notice was published in the Federal Register on July 1, 2010 (75 FR 38137).

At the request of the state, the Department reviewed the certification for workers of the subject firm. The workers are engaged in activities related to the production of injected molded components.

The company reports that workers leased from Remedy Staffing Services were employed on-site at the Tucson, Arizona location of Rain Bird Corporation, Arizona Molding Division. The Department has determined that these workers were sufficiently under the control of the subject firm to be considered leased workers.

Based on these findings, the Department is amending this certification to include workers leased from Remedy Staffing Services, working on-site at the Tucson, Arizona location of Rain Bird Corporation, Arizona Molding Division.

The amended notice applicable to TA-W-73,762 is hereby issued as follows:

All workers of Rain Bird Corporation, Arizona Molding Division, including on-site leased workers from Lumea Staffing Services, Tri-State Staffing Service and Remedy Staffing Services, Tucson, Arizona, who became totally or partially separated from employment on or after March 18, 2009, through June 9, 2012, and all workers in the group threatened with total or partial separation from employment on the date of certification through two years from the date of certification, are eligible to apply for adjustment assistance under Chapter 2 of Title II of the Trade Act of 1974, as amended.

Signed at Washington, DC this 24th day of August 2010.
Elliott S. Kushner,
Certifying Officer, Division of Trade Adjustment Assistance.

[FR Doc. 2010-22102 Filed 9-3-10; 8:45 am]

BILLING CODE 4510-FN-P